DEPARTMENT OF HEALTH AND HUMAN SERVICES

Centers for Disease Control and Prevention

Notice of Meeting

Office of the Director, Centers for Disease Control and Prevention (CDC), announces the following meeting:

Name: Guide to Community Preventive Services (GCPS) Task Force Meeting.

Times and Dates: 9 a.m.-5:30 p.m., February 9, 2000; 8 a.m.-3:30 p.m., February 10, 2000.

Place: The Renaissance Waverly Hotel, 2450 Galleria Parkway, Atlanta, Georgia 30339, telephone (770) 953-4500.

Status: Open to the public, limited only by the space available. The meeting room accommodates approximately 40 people.

Purpose: The mission of the Task Force is to develop and publish a Guide to Community Preventive Services, which is based on the best available scientific evidence and current expertise regarding essential public health services and what works in the delivery of those services.

Matters to be Discussed: Agenda items include: a briefing of administrative activities in the Community Guide Branch, recommendation approvals for the Oral Health and Tobacco Chapters, updates for the following chapters: Diabetes, Cancer, Motor Vehicle Occupant Injuries, Mental Health, Physical Activity, Nutrition, Sexual Behavioral, Alcohol, Violence Prevention and Sociocultural Environment, an update on the Economic Evaluation and a discussion of actions items for the next quarter.

Agenda items are subject to change as priorities dictate.

Contact Person for Additional Information: Stephanie Zaza, M.D., M.P.H., Chief, CPS Guide Development Activity, Division of Prevention Research and Analytic Methods, Epidemiology Program Office, CDC, 4770 Buford Highway, M/S K-73, Atlanta, Georgia 30341, telephone 770/488-8189.

Persons interested in reserving a space for this meeting should call 770/488-8189 by close of business on February 7, 2000.

The Director, Management Analysis and Services office has been delegated the authority to sign Federal Register notices pertaining to announcements of meetings and other committee management activities, for both the Centers for Disease Control and Prevention and the Agency for Toxic Substances and Disease Registry.

Carolyn J. Russell,
Director, Management Analysis and Services Office, Centers for Disease Control and Prevention.

[FR Doc. 00-2899 Filed 2-7-00; 8:45 am]

BILLING CODE 4163-18-P